FEDERAL MARITIME COMMISSION

Ocean Transportation Intermediary License Reissuance

Notice is hereby given that the following Ocean Transportation Intermediary licenses have been reissued by the Federal Maritime Commission pursuant to section 19 of the Shipping Act of 1984 (46 U.S.C. Chapter 409), and the regulations of the Commission pertaining to the licensing of Ocean Transportation Intermediaries, 46 CFR Part 515.

License No. | Name/Address | Date Reissued
018938N | Carex Shipping, LLC 2235 E. Flamingo, Ste. 201G, Las Vegas, NV 89119 | April 5, 2007.
001849F | Stiegler Shipping Company, Inc., 1151 Hillcrest Road, Suite F, Mobile, AL 36695 | April 2, 2007.
004395F | Superior Link International, Inc., 380 S. Lemon Avenue, Suite G, Walnut, CA 91789 | April 1, 2007.

Sandra L. Kusumoto,
Director, Bureau of Certification and Licensing.

[FR Doc. E7-7917 Filed 4-24-07; 8:45 am]

BILLING CODE 6730-01-P